DEPARTMENT OF HOMELAND SECURITY

Federal Emergency Management Agency

44 CFR Part 65

[Docket No. FEMA-B-7466]

Changes in Flood Elevation Determinations

AGENCY: Federal Emergency Management Agency (FEMA), Department of Homeland Security, Mitigation Division.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps in effect prior to this determination for the listed communities.

From the date of the second publication of these changes in a newspaper of local circulation, any person has ninety (90) days in which to request through the community that the Mitigation Division Director reconsider the changes. The modified BFEs may be changed during the 90-day period.

ADDRESSES: The modified BFEs for each community are available for inspection at the office of the Chief Executive Officer of each community. The respective addresses are listed in the table below.

FOR FURTHER INFORMATION CONTACT: William R. Blanton Jr., Engineering Management Section, Mitigation Division, FEMA, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities.

The changes BFEs are in accordance with 44 CFR 65.4.

National Environmental Policy Act. This rule is categorically excluded from the requirements of 44 CFR Part 10, Environmental Consideration. No environmental impact assessment has been prepared.

Regulatory Flexibility Act. The Mitigation Division Director for the FEMA certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 13132, Federalism. This rule involves no policies that have federalism implications under Executive Order 13132, Federalism.

Executive Order 12988, Civil Justice Reform. This rule meets the applicable standards of Section 2(b)(2) of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper Where notice was published | Chief executive officer of community | Effective date of modification | Community No.
North Carolina:
Buncombe | City of Asheville (05-04-2753P) | December 22, 2005; December 29, 2005; Asheville Citizen-Times | Mr. Gary Jackson, City Manager, City of Asheville, P.O. Box 7148, Asheville, North Carolina 28802 | March 30, 2006 | 370032
Durham | City of Chapel Hill (06-04-B144P) | January 27, 2006; January 30, 2006; Chapel Hill Herald | The Honorable Kevin C. Foy, Mayor, Town Chapel Hill, 19 Oakwood Drive, Chapel Hill, North Carolina 27517 | May 1, 2006 | 370180
Durham | City of Durham (06-04-B144P) | January 27, 2006; January 30, 2006; Chapel Hill Herald | The Honorable William V. Bell, Mayor, City of Durham, 101 City Hall Plaza, Durham, North Carolina 27701 | May 1, 2006 | 370086
Durham | City of Durham (06-04-B046P) | June 15, 2006; June 22, 2006; Herald Sun | The Honorable William V. Bell, Mayor, City of Durham, 101 City Hall Plaza, Durham, North Carolina 27701 | September 21, 2006 | 370086
Durham | City of Durham (06-04-0057P) | August 17, 2006; August 24, 2006; Herald Sun | The Honorable William V. Bell, Mayor, City of Durham, 101 City Hall Plaza, Durham, North Carolina 27701 | November 23, 2006 | 370086
Durham | Unincorporated Areas of Durham County (06-04-B144P) | January 27, 2006; January 30, 2006; Chapel Hill Herald | The Honorable Ellen W. Reckhow, Chairman, Durham County, Board of Supervisors, 11 Pine Top Place, Durham, North Carolina 27705 | May 1, 2006 | 370085
Durham | Unincorporated Areas of Durham County (06-04-0057P ) | August 17, 2006; August 24, 2006; Herald Sun | Mr. Michael M. Ruffin, County Manager, Durham County, 200 East Main Street, Second Floor, Durham, North Carolina 27701 | November 23, 2006 | 370085
Guilford | City of High Point (05-04-3099P) | December 15, 2005; December 22, 2005; High Point Enterprise | The Honorable Rebecca Rhodes-Smoothers, Mayor, City of High Point, 1843 Country Club Drive, High Point, North Carolina 27262 | March 23, 2006 | 370113
Mecklenburg | City of Charlotte (05-04-A580P) | May 18, 2006; May 25, 2006; Charlotte Observer | The Honorable Patrick McCrory, Mayor, City of Charlotte, 600 East Fourth Street, Charlotte, North Carolina 28202 | May 30, 2006 | 370159
Orange | Town of Carrboro (05-04-3236P) | May 17, 2006; May 24, 2006; Chapel Hill News | The Honorable Mark Chilton, Mayor, Town of Carrboro, 301 West Main Street, Carrboro, North Carolina 27510 | April 25, 2006 | 370275
Rowan | Unincorporated Areas of Rowan County (05-04-A505P) | March 23, 2006; March 30, 2006; Salisbury Post | The Honorable Arnold Chamberlain, Chairman, Rowan County Commission, 130 West Innes Street, Salisbury, North Carolina 28144-4326 | June 29, 2006 | 370351
Wake | Town of Cary (06-04-B143P) | January 27, 2006; January 30, 2006; News and Observer | The Honorable Ernie McAlister, Mayor, Town of Cary, P.O. Box 8005, Cary, North Carolina 27512-8005 | May 1, 2006 | 370238
Wake | Town of Cary (06-04-1527P) | July 20, 2006; July 27, 2006; Wake Weekly | The Honorable Ernie McAlister, Mayor, Town of Cary, P.O. Box 8005, Cary, North Carolina 27512-8005 | June 30, 2006 | 370238
Wake | Town of Cary (05-04-3129P) | August 24, 2006; August 31, 2006; Wake Weekly | The Honorable Ernie McAlister, Mayor, Town of Cary, P.O. Box 8005, Cary, North Carolina 27512-8005 | November 30, 2006 | 370238
Wake | Town of Morrisville (05-04-3129P) | August 24, 2006; August 31, 2006; Wake Weekly | The Honorable Jan Faulkner, Mayor, Town of Morrisville, Morrisville Town Hall, 100 Town Hall Drive, Morrisville, North Carolina 27560 | November 30, 2006 | 370242
Nebraska:
Burt | City of Tekamah (04-07-A619P) | March 15, 2006; March 22, 2006; Midwest Messenger,Burt County Plaindealer | The Honorable Bill Anderson, Mayor, City of Tekamah, 1315 K Street, Tekamah, Nebraska 68061-0143 | June 21, 2006 | 310024
Lincoln | City of North Platte (04-07-A439P) | January 27, 2006; February 2, 2006; North Platte Telegraph | The Honorable G. Keith Richardson, Mayor, City of North Platte, 211 West Third Street, North Platte, Nebraska 69101 | May 4, 2006 | 310143
Sarpy | City of Bellevue (06-07-B016P) | July 19, 2006; July 26, 2006; Bellevue Leader | The Honorable Jerry Ryan, Mayor, City of Bellevue, City Hall, 210 West Mission Avenue, Bellevue, Nebraska 68005 | June 30, 2006 | 310191
New Jersey:
Middlesex | City of South Amboy (05-02-0716P) | April 12, 2006; April 19, 2006; Home News Tribune | The Honorable John T. O'Leary, Jr., Mayor, City of South Amboy, Municipal Building, 140 North Broadway, South Amboy, New Jersey 08879 | March 29, 2006 | 340277
Ocean | Township of Jackson (04-02-A038P) | August 24, 2006; August 31, 2006; Ocean County Observer | The Honorable Mark A. Seda, Mayor, Township of Jackson, 95 West Veterans Highway, Jackson, New Jersey 08527 | August 7, 2006 | 340375
Union | Borough of Roselle Park (05-02-0038P) | January 26, 2006; February 2, 2006; Newark Star Ledger | The Honorable Joseph DeIorio, Mayor, Borough of Roselle Park, 110 East Westfield Avenue, Roselle, New Jersey 07204 | January 11, 2006 | 340473
New Mexico:
Bernalillo | City of Albuquerque (06-06-A653P) | February 9, 2006; February 16, 2006; Albuquerque Journal | The Honorable Martin Chavez, Mayor, City of Albuquerque, P.O. Box 1293, Albuquerque, New Mexico 87103 | January 30, 2006 | 350002
Bernalillo | City of Albuquerque (06-06-B190P) | July 13, 2006; July 20, 2006; Albuquerque Journal | The Honorable Martin Chavez, Mayor, City of Albuquerque, P.O. Box 1293, Albuquerque, New Mexico 87103 | June 27, 2006 | 350002
Bernalillo | City of Albuquerque (06-06-BC48P) | August 17, 2006; August 24, 2006; Albuquerque Journal | The Honorable Martin Chavez, Mayor, City of Albuquerque, P.O. Box 1293, Albuquerque, New Mexico 87103 | July 26, 2006 | 350002
Bernalillo | Unincorporated Areas of Bernalillo County (06-06-B190P) | July 13, 2006; July 20, 2006; Albuquerque Journal | The Honorable Tim Cummins, County Commissioner, Bernalillo County, One Civic Plaza Northwest, 10th Floor, Albuquerque, New Mexico 87102 | June 27, 2006 | 350001
Chaves | City of Roswell (06-06-B752P) | June 22, 2006; June 29, 2006; Roswell Daily Record | The Honorable Sam D. LaGrone, Mayor, City of Roswell, P.O. Box 1838, Roswell, New Mexico 88202 | May 30, 2006 | 350006
Sandoval | City of Rio Rancho (05-06-0661P) | November 28, 2005; November 30, 2005; Santa Fe New Mexican | The Honorable Jim Owen, Mayor, City of Rio Rancho, 3900 Southern Boulevard, Rio Rancho, New Mexico 87124 | November 14, 2005 | 350146
Nevada:
Clark | City of Henderson (05-09-A069P) | December 1, 2005; December 8, 2005; Las Vegas Review-Journal | The Honorable James B. Gibson, Mayor, City of Henderson, 240 South Water Street, Fourth Floor, Henderson, Nevada 89009-5050 | March 9, 2006 | 320005
Clark | Unincorporated Areas of Clark County (05-09-A069P) | December 1, 2005; December 8, 2005; Las Vegas Review-Journal | The Honorable Rory Reid, Chair, Clark County, Board of Commissioners, 500 Grand Central Parkway, Las Vegas, Nevada 89106 | March 9, 2006 | 320003
Clark | Unincorporated Areas of Clark County (06-09-B083P) | March 16, 2006; March 23, 2006; Las Vegas Review-Journal | The Honorable Rory Reid, Chair, Clark County, Board of Commissioners, 500 Grand Central Parkway, Las Vegas, Nevada 89106 | June 22, 2006 | 320003
New York:
Orange | Town of Wallkill (06-02-B016P) | July 27, 2006; August 3, 2006; Times Herald Record | The Honorable John Ward, Supervisor, Town of Wallkill, P.O. Box 398, Middletown, New York 10940 | June 30, 2006 | 360634
Ohio:
Butler | Unincorporated Areas of Butler County (05-05-A433P) | August 10, 2006; August 17, 2006; Middletown Journal | The Honorable Gregory V. Jolivette, County Commissioner, Butler County, 130 High Street, Sixth Street, Hamilton, Ohio 45011 | November 16, 2006 | 390037
Hamilton | Unincorporated Areas of Hamilton County (05-05-3352P) | January 18,2006; January 25, 2006; Hill Top Press | The Honorable Phil Heimlich, Chairman, Hamilton County, Board of Supervisors, 138 East Court Street, Room 603, Cincinnati, Ohio 45202 | April 26, 2006 | 390204
Fairfield | City of Reynoldsburg (05-05-1178P) | June 29, 2006; July 6, 2006; Lancaster Eagle Gazette | The Honorable Ronald L. McPherson, Mayor, City of Reynoldsburg, 7232 East Main Street, Reynoldsburg, Ohio 43068 | October 5, 2006 | 390177
Franklin | City of Reynoldsburg (05-05-3716P) | June 1, 2006; June 8, 2006; Columbus Dispatch | The Honorable Ronald L. McPherson, Mayor, City of Reynoldsburg, 7232 East Main Street, Reynoldsburg, Ohio 43068 | May 10, 2006 | 390177
Franklin | Unincorporated Areas of Franklin County (05-05-3716P) | June 1, 2006; June 8, 2006; Columbus Dispatch | The Honorable Mary Jo Kilroy, County Commissioner, Franklin County Board of Commissioners, 373 South High Street, Columbus, Ohio 43215 | May 10, 2006 | 390167
Lucas | Village of Berkey (05-05-3351P) | April 20, 2006; April 27, 2006; Toledo Legal News | The Honorable Barb Huff, Mayor, Village of Berkey, Village of Council Building, 12360 Sylvania Metamore Road, Berkey, Ohio 43504 | July 27, 2006 | 390901
Lucas | Unincorporated Areas of Lucas County (05-05-3351P) | April 20, 2006; April 27, 2006; Toledo Legal News | The Honorable Tina Skeldon Wozniak, President, Lucas County, Board of Commissioners, One Government Center, Suite 800, Toledo, Ohio 43604 | July 27, 2006 | 390359
Medina | City of Brunswick (06-05-B240P) | August 17, 2006; August 24, 2006; Medina Gazette | The Honorable Dale Strasser, Mayor, City of Brunswick, 4095 Center Road, Brunswick, Ohio 44212 | November 23, 2006 | 390380
Montgomery | City of Clayton (05-05-2903P) | February 15, 2006; February 22, 2006; Englewood Independent | The Honorable Ted Gudorf, Mayor, City of Clayton, 14 West Fourth Street, Dayton, Ohio 45481 | May 24, 2006 | 390821
Montgomery | City of Englewood (05-05-2903P) | February 15, 2006; February 22, 2006; Englewood Independent | The Honorable Michael Bowers, Jr, Mayor, City of Englewood, 333 West National Road, Englewood, Ohio 45322-1495 | May 24, 2006 | 390828
Montgomery | City of Englewood (06-05-B499P) | July 5, 2006; July 12, 2006; Englewood Independent | The Honorable Michael Bowers, Jr, Mayor, City of Englewood, 333 West National Road, Englewood, Ohio 45322-1495 | October 11, 2006 | 390828
Montgomery | Unincorporated Areas of Montgomery County (05-05-4118P) | December 21, 2005; December 28, 2005; Englewood Independent | Ms. Deborah A. Feldman, County Administrator, Montgomery County, 451 West Third Street, Dayton, Ohio 45422 | December 8, 2005 | 390775
Oklahoma:
Oklahoma | City of Edmond (05-06-1554P) | April 12, 2006; April 19, 2006; Edmond Sun | The Honorable Saundra Naifeh, Mayor, City of Edmond, P.O. Box 2970, Edmond, Oklahoma 73083 | July 19, 2006 | 400252
Oklahoma | City of Midwest (05-06-0976P) | August 23, 2006; August 30, 2006; Oklahoma County News | The Honorable Eddie Reed, Mayor, City of Midwest City, P.O. Box 10870, Midwest City, Oklahoma 73140 | August 28, 2006 | 400405
Oklahoma | City of Oklahoma City (05-06-0453P) | January 12, 2006; January 19, 2006; Oklahoma Journal Record | The Honorable Mick Cornett, Mayor, City of Oklahoma City, City Hall, 200 North Walker Street, Third Floor, Oklahoma City, Oklahoma 73102 | December 29, 2005 | 405378
Pottawatomie | City of Shawnee (06-06-B821P) | August 17, 2006; August 24, 2006; Shawnee New Star | The Honorable Chuck Mills, Mayor, City of Shawnee, P.O. Box 1448, Shawnee, Oklahoma 74802-1448 | July 31, 2006 | 400178
Tulsa | City of Tulsa (05-06-A430P) | April 20, 2006; April 27, 2006; Tulsa World | The Honorable Bill Lafortune, Mayor, City of Tulsa, 200 Civic Center, 11th Floor, Room 532, Tulsa, Oklahoma 74103 | March 31, 2006 | 405381
Tulsa | City of Tulsa (05-06-A125P) | August 10, 2006; August 17, 2006; Tulsa World | The Honorable Kathy Taylor, Mayor, City of Tulsa, 200 Civic Center, Tulsa, Oklahoma 74103 | November 16, 2006 | 405381
Oregon:
Marion | City of Stayton (03-10-0442P) | February 2, 2006; February 9, 2006; The Statesman Journal | The Honorable Gerry Aboud, Mayor, City of Stayton, 362 North Third Avenue, Stayton, Oregon 97383 | May 11, 2006 | 410170
Marion | Unincorporated Areas of Marion County (03-10-0442P) | February 2, 2006; February 9, 2006; Journal Statesman | The Honorable Sam Brentano, Chairman, Marion County, Board of Commissioners, P.O. Box 14500, Salem, Oregon 97309 | May 11, 2006 | 410154
Pennsylvania:
Berks | Township of Longswamp (05-03-0239P) | March 2, 2006; March 9, 2006; Reading Eagle | The Honorable Donald C. Stegfried, Chairman, Longswamp Township, 1112 State Street, Mertztown, Pennsylvania 19539 | June 8, 2006 | 421380
Berks | Township of Rockland (05-03-0239P) | March 2, 2006; March 9, 2006; Reading Eagle | The Honorable Russell W. Coffin, Chairman, Rockland Township, Board of Supervisors, P.O. Box 149, Bowers, Pennsylvania 19511 | June 8, 2006 | 421098
York | York Township (06-03-B333P) | August 24, 2006; August 31, 2006; York Dispatch | The Honorable Phillip W. Briddell, President, York Township, Board of Commissioners, 335 Hill-N-Dale Drive, York, Pennsylvania 17403 | July 31, 2006 | 421032
Puerto Rico | Commonwealth of Puerto Rico (05-02-0421P) | June 29, 2006; July 6, 2006; San Juan Star | The Honorable Anibal Acevedo-Vila, Governor of Commonwealth of Puerto Rico, P.O. Box 82, La Fortaleza, San Juan, Puerto Rico 00901 | October 5, 2006 | 720000
Puerto Rico | Commonwealth of Puerto Rico (05-02-0270P) | August 17, 2006; August 24, 2006; San Juan Star | The Honorable Anibal Acevedo-Vila, Governor of Commonwealth of Puerto Rico, P.O. Box 82, La Fortaleza, San Juan, Puerto Rico 00901 | November 23, 2006 | 720000
Rhode Island: Washington | Town of Westerly (05-01-A502P) | June 22, 2006; June 29, 2006; Westerly Sun | Mr. Joseph T. Turo, Esq., Town Manager, Town of Westerly, Town Hall, 45 Broad Street, Westerly, Rhode Island 02891 | May 25, 2006 | 445410
South Carolina:
Charleston | Town of Mount Pleasant (06-04-B002P) | February 15, 2006; February 22, 2006; Moultries News | The Honorable Harry M. Hallman, Jr., Mayor, Town of Mount Pleasant, P.O. Box 745, Mount Pleasant, South Carolina 29465 | January 31, 2006 | 455417
Horry | Unincorporated Areas of Horry County (06-04-B138X) | December 22, 2005; December 29, 2005; Horry Independent | The Honorable Elizabeth Gilland, Chairman, Horry County Council, 1511 Elm Street, Conway, South Carolina 29526 | March 30, 2006 | 450104
Greenville | City of Simpsonville (05-04-A572P) | June 29, 2006; July 06, 2006; Greenville News | The Honorable Dennis C. Waldrop, Mayor, City of Simpsonville, City Hall, 118 Northeast Main Street, Simpsonville, South Carolina 29681 | October 5, 2006 | 450092
Greenville | Unincorporated Areas of Greenville County (06-04-B011P) | May 20, 2006; May 25, 2006; Greenville News | The Honorable Herman G. Kirven, Chairman, Greenville County Council, 313 League Road, Simpsonville, South Carolina 29681 | August 24, 2006 | 450089
Greenville | Unincorporated Areas of Greenville County (06-04-B012P) | May 20, 2006; May 26, 2006; Greenville News | The Honorable Herman G. Kirven, Chairman, Greenville County Council, 313 League Road, Simpsonville, South Carolina 29681 | August 25, 2006 | 450089
Greenville | Unincorporated Areas of Greenville County (05-04-A572P) | June 29, 2006; July 6, 2006; Greenville News | The Honorable Herman G. Kirven, Chairman, Greenville County Council, 313 League Road, Simpsonville, South Carolina 29681 | October 5, 2006 | 450089
Lancaster | Unincorporated Areas of Lancaster County (05-04-2990P) | February 2, 2006; February 9, 2006; The Herald | Mr. Chappell “Chap” Hurst, Jr., County Administrator, Lancaster County, P.O. Box 1809, Lancaster, South Carolina 29721 | May 11, 2006 | 450120
Richland | City of Columbia (05-04-A589P) | August 11, 2006; August 18, 2006; Columbia Star | The Honorable Bob Cobble, Mayor, City of Columbia, P.O. Box 147, Columbia, South Carolina 29217 | November 17, 2006 | 450172
Richland | Town of Irmo (05-04-3485P) | May 18, 2006; May 25, 2006; Irmo News | The Honorable John L. Gibbons, Mayor, Town of Irmo, P.O. Box 406, Irmo, South Carolina 29063 | August 24, 2006 | 450133
Richland | Unincorporated Areas of Richland County (05-04-3127P) | March 24, 2006; March 31, 2006; Columbia Star | Mr. T. Cary McSwaim, County Administrator, Richland County, P.O. Box 192, Columbia, South Carolina 29202 | February 24, 2006 | 450170
Richland | Unincorporated Areas of Richland County (05-04-3485P) | May 18, 2006; May 25, 2006; Irmo News | The Honorable Tony Mizzell, Chair, Richland County Council, 2020 Hampton, Columbia, South Carolina 29202 | August 24, 2006 | 450170
Richland | Unincorporated Areas of Richland County (05-04-A589P) | August 11, 2006; August 18, 2006; Columbia Star | Mr. J. Milton Pope, Interim County Administrator, Richland County, P.O. Box 192, Columbia, South Carolina 29202 | November 17, 2006 | 450170
Sumter | Unincorporated Areas of Sumter County (04-04-B134P) | June 15, 2006; June 22, 2006; The Item | Mr. William T. Noonan, County Administrator, Sumter County, 13 East Canal Street, Sumter, South Carolina 29150 | September 21, 2006 | 450182
York | Unincorporated Areas of York County (05-04-2990P) | February 2, 2006; February 9, 2006; The Herald | Mr. Alfred W. “ Al” Greene, County Manager, York County, P.O. Box 66, York, South Carolina 29745 | May 11, 2006 | 450193
Tennessee:
Cheatham | Town of Ashland City (06-04-A705P) | May 18, 2006; May 25, 2006; Ashland City Times | The Honorable Gary Norwood, Mayor, Town of Ashland City, P.O. Box 36, Ashland City, Tennessee 37015 | August 23, 2006 | 470027
Davidson | City of Forest Hills (05-04-A471P) | June 15, 2006; June 22, 2006; Nashville Record | The Honorable Charles K. Evers, Mayor, City of Forest Hills, 4012 Hillsboro Road, Suite 5, Nashville, Tennessee 37215 | September 21, 2006 | 470407
Davidson | Metropolitan Government of Nashville and Davidson County (05-04-2201P) | January 26, 2006; February 2, 2006; Nashville Record | The Honorable Bill Purcell, Mayor, Metropolitan Government of Nashville and Davidson County, 107 Metropolitan Courthouse, Nashville, Tennessee 37201 | January 12, 2006 | 470040
Davidson | Metropolitan Government of Nashville and Davidson County (05-04-B137P) | March 23, 2006; March 30, 2006; Nashville Record | The Honorable Bill Purcell, Mayor, Metropolitan Government of Nashville and Davidson County, 107 Metropolitan Courthouse, Nashville, Tennessee 37201 | June 29, 2006 | 470040
Davidson | Metropolitan Government of Nashville and Davidson County (05-04-A471P) | June 15, 2006; June 22, 2006; Nashville Record | The Honorable Bill Purcell, Mayor, Metropolitan Government of Nashville and Davidson County, 107 Metropolitan Courthouse, Nashville, Tennessee 37201 | September 21, 2006 | 470040
Henry | City of Paris (05-04-3184P) | March 30, 2006; April 6, 2006; Paris Post -Intelligencer | The Honorable Larry Crawford, Mayor, City of Paris, P.O. Box 970, Paris, Tennessee 38242 | July 06, 2006 | 470090
Rutherford | Unincorporated Areas of Rutherford County (06-04-B427P) | May 25, 2006; June 1, 2006; Daily News Journal | The Honorable Nancy R. Allen, County Executive, Rutherford County, County Courthouse, Room 101, Murfreesboro, Tennessee 37130 | August 24, 2006 | 470165
Shelby | Town of Collierville (06-04-B865P) | August 24, 2006; August 31, 2006; Daily News | The Honorable Linda Kerley, Mayor, Town of Collierville, 500 Poplar View Parkway, Collierville, Tennessee 38017 | July 31, 2006 | 470263
Shelby | City of Memphis (05-04-0247P) | August 21, 2006; August 28, 2006; Commercial Appeal | The Honorable Willie W. Herenton, Mayor, City of Memphis, City Hall, 125 North Main Street, Room 700, Memphis, Tennessee 38103 | July 28, 2006 | 470177
Shelby | Unincorporated Areas of Shelby County (06-04-B865P) | August 24, 2006; August 31, 2006; Daily News | The Honorable A.C. Wharton, Jr., Mayor, Shelby County, 160 North Main Street, Suite 850, Memphis, Tennessee 38103 | July 31, 2006 | 470214
Williamson | City of Brentwood (06-04-B110P) | June 22, 2006; June 29, 2006; The Nennessean | The Honorable Brian Joe Sweeney, Mayor, City of Brentwood, P.O. Box 788, Brentwood, Tennessee 37024-0788 | September 27, 2006 | 470205
Texas:
Angelina | City of Lufkin (05-06-0240P) | March 16, 2006; March 23, 2006; Lufkin Daily News | The Honorable Louis A. Bronaugh, Mayor, City of Lufkin, P.O. Box 190, Lufkin, Texas 75902-0190 | June 22, 2006 | 480009
Bell | City of Killeen (05-06-0514P) | March 23, 2006; March 30, 2006; Killeen Daily Herald | The Honorable Maureen Jouett, Mayor, City of Killeen, 101 North College Street, Third Floor, Killeen, Texas 76541 | March 1, 2006 | 480031
Bexar | City of San Antonio (05-06-0892P) | December 8, 2005; December 15, 2005; Austin American Statesman | The Honorable Phil Hardberger, Mayor, City of San Antonio, P.O. Box 839966, San Antonio, Texas 78283-3966 | March 16, 2006 | 480045
Bexar | City of San Antonio (05-06-1714P) | February 24, 2006; March 3, 2006; Daily Commercial Recorder | The Honorable Phil Hardberger, Mayor, City of San Antonio, P.O. Box 839966, San Antonio, Texas 78283-3966 | June 1, 2006 | 480045
Bexar | City of San Antonio (05-06-A206P) | April 27, 2006; May 5, 2006; Daily Commercial Recorder | The Honorable Phil Hardberger, Mayor, City of San Antonio, P.O. Box 839966, San Antonio, Texas 78283-3966 | August 4, 2006 | 480045
Bexar | City of San Antonio (06-06-B641P) | July 21, 2006; July 28, 2006; Daily Commercial Recorder | The Honorable Phil Hardberger, Mayor, City of San Antonio, P.O. Box 839966, San Antonio, Texas 78283-3966 | October 27, 2006 | 480035
Bexar | City of San Antonio (05-06-1455P) | August 24, 2006; August 31, 2006; Daily Commercial Recorder | The Honorable Phil Hardberger, Mayor, City of San Antonio, P.O. Box 839966, San Antonio, Texas 78283-3966 | September 7, 2006 | 480045
Bexar | Unincorporated Areas of Bexar County (05-06-1445P) | January 12, 2006; January 19, 2006; Daily Commercial Recorder | The Honorable Nelson W. Wolff, Bexar County Judge, Bexar County Courthouse, 100 Dolorosa, Suite 120, San Antonio, Texas 78205 | January 5, 2006 | 480035
Bexar | Unincorporated Areas of Bexar County (05-06-A206P) | April 27, 2006; May 5, 2006; Daily Commercial Recorder | The Honorable Nelson W. Wolff, Bexar County Judge, Bexar County Courthouse, 100 Dolorosa, Suite 120, San Antonio, Texas 78205 | August 4, 2006 | 480035
Bexar | Unincorporated Areas of Bexar County (06-06-B271P) | June 22, 2006; June 29, 2006; Daily Commercial Recorder | The Honorable Nelson W. Wolff, Bexar County Judge, Bexar County Courthouse, 100 Dolorosa, Suite 120, San Antonio, Texas 78205 | May 31, 2006 | 480035
Bexar | Unincorporated Areas of Bexar County (06-06-A673P) | June 22, 2006; June 29, 2006; Daily Commercial Recorder | The Honorable Nelson W. Wolff, Bexar County Judge, Bexar County Courthouse, 100 Dolorosa, Suite 120, San Antonio, Texas 78205 | September 28, 2006 | 480035
Bexar | Unincorporated Areas of Bexar County (05-06-A520P) | July 14, 2006; July 21, 2006; Daily Commercial Recorder | The Honorable Nelson W. Wolff, Bexar County Judge, Bexar County Courthouse, 100 Dolorosa, Suite 120, San Antonio, Texas 78205 | October 20, 2006 | 480035
Bexar | Unincorporated Areas of Bexar County (05-06-A521P) | August 24, 2006; August 31, 2006; Daily Commercial Recorder | The Honorable Nelson W. Wolff, Bexar County Judge, Bexar County Courthouse, 100 Dolorosa, Suite 120, San Antonio, Texas 78205 | July 31, 2006 | 480035
Collin | City of Allen (06-06-B418P) | July 27, 2006; August 3, 2006; Allen American | The Honorable Stephen Terrell, Mayor, City of Allen, City Hall, 305 Century Parkway, Allen, Texas 75013 | November 2, 2006 | 480131
Collin | City of Allen (06-06-B430P) | August 17, 2006; August 24, 2006; Allen American | The Honorable Stephen Terrell, Mayor, City of Allen, City Hall, 305 Century Parkway, Allen, Texas 75013 | July 31, 2006 | 480131
Collin | City of Frisco (06-06-B193P) | September 1, 2006; September 8, 2006; Frisco Enterprise | The Honorable Mike Simpson, Mayor, City of Frisco, 6891 Main Street, Frisco, Texas 75034 | August 24, 2006 | 480134
Collin | City of Frisco (05-06-1675P) | September 8, 2006; September 15, 2006; Frisco Enterprise | The Honorable Mike Simpson, Mayor, City of Frisco, 6891 Main Street, Frisco, Texas 75034 | December 15, 2006 | 480134
Collin | City of McKinney (05-06-0127P) | February 16, 2006; February 23, 2006; McKinney Courier Gazette | The Honorable Bill Whitfield, Mayor, City of McKinney, 222 North Tennessee, McKinney, Texas 75069 | May, 25, 2006 | 480135
Collin | City of McKinney (05-06-A318P) | April 20, 2006; April 27, 2006; McKinney Courier Gazette | The Honorable Bill Whitfield, Mayor, City of McKinney, 222 North Tennessee, McKinney, Texas 75069 | July 27, 2006 | 480135
Collin | City of McKinney (06-06-B170P) | August 24, 2006; August 31, 2006; McKinney Courier Gazette | The Honorable Bill Whitfield, Mayor, City of McKinney, 222 North Tennessee, McKinney, Texas 75069 | November 30, 2006 | 480135
Collin | City of Plano (06-06-B005P) | March 16, 2006; March 23, 2006; Plano Star Courier | The Honorable Pat Evans, Mayor, City of Plano, P.O. Box 860358, Plano, Texas 75086-0358 | February 24, 2006 | 480140
Collin | City of Plano (06-06-B026P) | July 19, 2006; July 26, 2006; Plano Star Courier | The Honorable Pat Evans, Mayor, City of Plano, P.O. Box 860358, Plano, Texas 75086-0358 | October 25, 2006 | 480140
Collin | City of Plano (06-06-B374P) | August 16, 2006; August 23, 2006; Plano Star Courier | The Honorable Pat Evans, Mayor, City of Plano, P.O. Box 860358, Plano, Texas 75086-0358 | November 22, 2006 | 480140
Dallas | City of Carrollton (05-06-0086P) | April 5, 2006; April 12, 2006; Carrollton Leader | The Honorable Becky Miller, Mayor, City of Carrollton, 1945 East Jackson Road, Carrollton, Texas 75006 | July 12, 2006 | 480167
Dallas | City of Dallas (05-06-0199P) | December 8, 2005; December 15, 2005; Daily Commercial Record | The Honorable Laura Miller, Mayor, City of Dallas, Dallas City Hall, 1500 Marilla Street, Room 5EN, Dallas, Texas 75201-6390 | March 16, 2006 | 480171
Dallas | City of Garland (06-06-B043P) | June 22, 2006; June 29, 2006; Daily Commercial Record | The Honorable Bob Day, Mayor, City of Garland, P.O. Box 469002, Garland, Texas 75046 | May 31, 2006 | 485471
Dallas | City of Garland (05-06-A172P) | July 20, 2006; July 27, 2006; Daily Commercial Record | The Honorable Bob Day, Mayor, City of Garland, P.O. Box 469002, Garland, Texas 75046 | October 26, 2006 | 485471
Dallas | City of Garland (06-06-B168P) | August 17, 2006; August 24, 2006; Daily Commercial Record | The Honorable Bob Day, Mayor, City of Garland, P.O. Box 469002, Garland, Texas 75046 | November 23, 2006 | 485471
Dallas | City of Sachse (06-06-B043P) | June 22, 2006; June 29, 2006; Daily Commercial Record | The Honorable Michael Felis, Mayor, City of Sachse, 5560 State Highway 78, Sachse, Texas 75048 | May 31, 2006 | 480186
Dallas | Unincorporated Areas of Dallas County (05-06-A509P) | May 5, 2006; May 11, 2006; Dallas Morning News | The Honorable Margaret Keliher, Dallas County Judge, Administration Office, 411 Elm Street, Dallas, Texas 75202 | April 19, 2006 | 480165
Denton | City of Corinth (05-06-1383P) | March 9, 2006; March 16, 2006; Denton Record-Chronicle | The Honorable Vic Burgess, Mayor, Town of Corinth, 3300 Corinth Street, Corinth, Texas 76205 | June 15, 2006 | 481143
Denton | City of Denton (05-06-1383P) | March 9, 2006; March 16, 2006; Denton Record-Chronicle | The Honorable Euline Brock, Mayor, City of Denton, 215 East McKinney Street, Denton, Texas 76201 | June 15, 2006 | 480194
Denton | City of Denton (05-06-A100P) | August 10, 2006; August 17, 2006; Denton Record Chronicle | The Honorable Michael Conduff, Mayor, City of Denton, 215 East McKinney, Denton, Texas 76201 | November 16, 2006 | 480194
Denton | City of Lewisville (05-06-0170P) | January 4, 2006; January 11, 2006; Lewisville Leader | The Honorable Gene Carey, Mayor, City of Lewisville, P.O. Box 299002, Lewisville, Texas 75029-9002 | April 12, 2006 | 480195
Denton | City of Ponder (06-06-B215P) | July 13, 2006; July 20, 2006; Denton Record Chronicle | The Honorable Vivian Cockburn, Mayor, City of Ponder, P.O. Box 297, Ponder, Texas 76259 | October 19, 2006 | 480784
Denton | Unincorporated Areas of Denton County (05-06-1429P) | April 20, 2006; April 27, 2006; Fort Worth Star Telegram | The Honorable Mary Horn, Denton County Judge, 110 West Hickory Street, Second Floor, Denton, Texas 76201 | July 27, 2006 | 480774
Denton | Unincorporated Areas of Denton County (05-06-A100P) | August 10, 2006; August 17, 2006; Denton Record Chronicle | The Honorable Mary Horn, Denton County Judge, 110 West Hickory Street, Second Floor, Denton, Texas 76201 | November 16, 2006 | 480774
Ellis | Unincorporated Areas of Ellis County (05-06-A558P) | April 13, 2006; April 20, 2006; Ellis County Press | The Honorable Chad Adams, Ellis County Judge, 101 West Main Street, Waxahachie, Texas 75165 | July 20, 2006 | 480798
Ellis | City of Waxahachie (06-06-B466P) | June 21, 2006; June 28, 2006; Waxahachie Daily Light | The Honorable Jay Barksdale, Mayor, City of Waxahachie, P.O. Box 757, Waxahachie, Texas 75168-0757 | September 27, 2006 | 480211
El Paso | Unincorporated Areas of El Paso County (06-06-B324P) | May 11, 2006; May 18, 2006; El Paso Times | The Honorable John Cook, Mayor, City of El Paso, Two Civic Center Plaza, 10th Floor, El Paso, Texas 79901 | April 17, 2006 | 480214
Fort Bend | Unincorporated Areas of Fort Bend County (06-06-B011P) | May 18, 2006; May 25, 2006; Ford Bend Herald | Ms. Ellen Hughes, District President, Fort Bend County Municipal Utility, District No. 23, 1715 Misty Fawn Lane, Fresno, Texas 77545 | August 24, 2006 | 481590
Galveston | City of League City (05-06-1666P) | April 20, 2006; April 27, 2006; Galveston County Daily News | The Honorable Jerry Shults, Mayor, City of League City, 300 West Walker Street, League City, Texas 77573 | March 31, 2006 | 485488
Gregg & Rusk | City of Kilgore (04-06-A011P) | March 24, 2006; March 31, 2006; Kilgore News Herald | The Honorable Joe Parker, Mayor, City of Kilgore, P.O. Box 990, Kilgore, Texas 75663 | June 30, 2006 | 480263
Harris | City of Houston (04-06-1460P) | April 6, 2006; April 13, 2006; Houston Chronicle | The Honorable Bill White, Mayor, City of Houston, P.O. Box 1562, Houston, Texas 77251 | July 6, 2006 | 480296
Harris | Unincorporated Areas of Harris County (04-06-1299P) | March 16, 2006; April 6, 2006; Houston Chronicle | The Honorable Robert Eckels, Harris County Judge, 1001 Preston, Suite 911, Houston, Texas 77002 | June 22, 2006 | 480287
Harris | Unincorporated Areas of Harris County (04-06-1460P) | April 6, 2006; April 13, 2006; Houston Chronicle | The Honorable Robert Eckels, Harris County Judge, 1001 Preston, Suite 911, Houston, Texas 77002 | July 6, 2006 | 480287
Hays | Unincorporated Areas of Hays County (06-06-B006P); | August 17, 2006; August 24, 2006; Hays County Free Press | The Honorable Jim Powesr, Hays County Judge, 111 East San Antonio Street, Suite 300, San Marcos, Texas 78666 | November 23, 2006 | 480321
Hidalgo | City of McAllen (05-06-1607P) | March 9, 2006; March 16, 2006; The Monitor | The Honorable Richard F. Cortez, Mayor, City of McAllen, 1300 Houston Avenue, McAllen, Texas 78501 | February 21, 2006 | 480343
Jones and Taylor | City of Abilene (05-06-1712P) | January 26, 2006; February 2, 2006; Abilene Reporter News | The Honorable Norm Archibald, Mayor, City of Abilene, 717 Byrd Drive, Abilene, Texas 79601 | May 4, 2006 | 485450
Kendall | Unincorporated Areas of Kendall County (04-06-A211P) | August 22, 2006; August 29, 2006; Boerne Star | The Honorable Eddie John Vogt, Kendall County Judge, 204 East San Antonio Street, Boerne, Texas 78006 | November 28, 2006 | 480417
Lampasas | City of Lampasas (06-06-B513P) | August 15, 2006; August 22, 2006; Lampasas Dispatch Record | The Honorable Jack Calcert, Mayor, City of Lampasas, 312 East Third Street, Lampasas, Texas 76550 | August 21, 2006 | 480430
Lubbock | City of Lubbock (05-06-1579P) | January 12, 2006; January 19, 2006; Lubbock Avalanche-Journal | The Honorable Mark McDougal, Mayor, City of Lubbock, P.O. Box 2000, Lubbock, Texas 79457 | December 28, 2005 | 480452
Lubbock | City of Lubbock (05-06-1480P) | March 30, 2006; April 6, 2006; Lubbock Avalanche-Journal | The Honorable Mark McDougal, Mayor, City of Lubbock, P.O. Box 2000, Lubbock, Texas 79457 | March 1, 2006 | 480452
Lubbock | City of Wolfforth (05-06-0566P) | February 2, 2006; February 9, 2006; Lubbock Avalanche-Journal | The Honorable L.C. Childers, Mayor, City of Wolfforth, P.O. Box 36, Wolfforth, Texas 79382 | May, 11 2006 | 480918
Medina | Unincorporated Areas of Medina County (06-06-BB97P) | August 24, 2006; August 31, 2006; Hondo Anvil Herald | The Honorable James E. Barden, Medina County Judge, Medina County Courthouse, 1100 16th Street, Room 101, Hondo, Texas 78861 | July 31, 2006 | 480472
Montgomery | Unincorporated Areas of Montgomery County (05-06-A477P) | May 10, 2006; May 17, 2006; Houston Community NewspapersObserver Newspapers | The Honorable Alan B. Sadler, Montgomery County Judge, 301 North Thompson, Suite 210, Conroe, Texas 77301 | April 24, 2006 | 480483
Parker | City of Weatherford (05-06-0653P) | May 18, 2006; May 25, 2006; Weatherford Democrat | The Honorable Joe M. Tison, Mayor, City of Weatherford, P.O. Box 255, Weatherford, Texas 76086 | August 24, 2006 | 480522
Rockwall | City of Royse (05-06-A064P) | April 12, 2006; April 19, 2006; Royse City Herald Banner | The Honorable Jim Mellody, Mayor, City of Royse City, P.O. Box 638, Royse City, Texas 75189 | July 20, 2006 | 480548
Tarrant | City of Arlington (05-06-0568P) | April 20, 2006; April 27, 2006; Fort Worth Star Telegram | The Honorable Dr. Robert N. Cluck, Mayor, City of Arlington, 101 West Abram Street, Arlington, Texas 76004-0231 | July 27, 2006 | 485454
Tarrant | City of Bedford (05-06-A515P) | April 27, 2006; May 4, 2006; Fort Worth Star Telegram | The Honorable James Story, Mayor, City of Bedford, 2000 Forest Ridge Drive, Bedford, Texas 76021 | August 3, 2006 | 480585
Tarrant | City of Benbrook (05-06-0711P) | February 2, 2006; February 9, 2006; Benbrook News | The Honorable Jerry B. Dittrich, Mayor, City of Benbrook, 911 Winscott Road, Benbrook, Texas 76126 | May 11, 2006 | 480586
Tarrant | City of Dalworthington Gardens (05-06-0568P) | April 20, 2006; April 27, 2006; Fort Worth Star Telegram | The Honorable Albert Taub, Mayor, City of Dalworthington Gardens, 2600 Roosevelt Drive, Arlington, Texas 76016 | July 27, 2006 | 480013
Tarrant | City of Fort Worth (05-06-0767P) | December 8, 2005; December 15, 2005; Fort Worth Star Telegram | The Honorable Michael J. Moncrief, Mayor, City of Fort Worth, 10000 Throckmorton Street, Fort Worth, Texas 76102 | March 16, 2006 | 480596
Tarrant | City of Fort Worth (05-06-0796P) | December 22, 2005; December 29, 2005; Fort Worth Star Telegram | The Honorable Michael J. Moncrief, Mayor, City of Fort Worth, 10000 Throckmorton Street, Fort Worth, Texas 76102 | December 13, 2005 | 480596
Tarrant | City of Fort Worth (05-06-A227P) | January 12, 2006; January 19, 2006; Fort Worth Star Telegram | The Honorable Michael J. Moncrief, Mayor, City of Fort Worth, 10000 Throckmorton Street, Fort Worth, Texas 76102 | April 20, 2006 | 480596
Tarrant | City of Fort Worth (05-06-1757P) | January 12, 2006; January 19, 2006; Fort Worth Star Telegram | The Honorable Michael J. Moncrief, Mayor, City of Fort Worth, 10000 Throckmorton Street, Fort Worth, Texas 76102 | December 28, 2005 | 480596
Tarrant | City of Fort Worth (05-06-A171P) | March 16, 2006; March 23, 2006; Fort Worth Star Telegram | The Honorable Michael J. Moncrief, Mayor, City of Fort Worth, 10000 Throckmorton Street, Fort Worth, Texas 76102 | February 28, 2006 | 480596
Tarrant | City of Fort Worth (06-06-B068P) | April 20, 2006; April 27, 2006; Fort Worth Star Telegram | The Honorable Michael J. Moncrief, Mayor, City of Fort Worth, 10000 Throckmorton Street, Fort Worth, Texas 76102 | July 27, 2006 | 480596
Tarrant | City of Fort Worth (06-06-B004P) | April 20, 2006; April 27, 2006; Fort Worth Star Telegram | The Honorable Michael J. Moncrief, Mayor, City of Fort Worth, 10000 Throckmorton Street, Fort Worth, Texas 76102 | July 27, 2006 | 480596
Tarrant | City of Fort Worth (06-06-B169P) | June 15, 2006; June 22, 2006; Fort Worth Star Telegram | The Honorable Michael J. Moncrief, Mayor, City of Fort Worth, 10000 Throckmorton Street, Fort Worth, Texas 76102 | September 21, 2006 | 480596
Tarrant | City of Fort Worth (05-06-1252P) | June 22, 2006; June 29, 2006; Fort Worth Star Telegram | The Honorable Michael J. Moncrief, Mayor, City of Fort Worth, 10000 Throckmorton Street, Fort Worth, Texas 76102 | September 28, 2006 | 480596
Tarrant | City of Fort Worth (06-06-B536P) | June 22, 2006; June 29, 2006; Fort Worth Star Telegram | The Honorable Michael J. Moncrief, Mayor, City of Fort Worth, 10000 Throckmorton Street, Fort Worth, Texas 76102 | September 28, 2006 | 480596
Tarrant | City of Fort Worth (06-06-B065P) | July 13, 2006; July 20, 2006; Fort Worth Star Telegram | The Honorable Michael J. Moncrief, Mayor, City of Fort Worth, 10000 Throckmorton Street, Fort Worth, Texas 76102 | October 19, 2006 | 480596
Tarrant | City of Fort Worth (06-06-B570P) | July 13, 2006; July 20, 2006; Fort Worth Star Telegram | The Honorable Michael J. Moncrief, Mayor, City of Fort Worth, 10000 Throckmorton Street, Fort Worth, Texas 76102 | October 19, 2006 | 480596
Tarrant | City of Fort Worth (05-06-0916P) | July 20, 2006; July 27, 2006; Fort Worth Star Telegram | The Honorable Michael J. Moncrief, Mayor, City of Fort Worth, 10000 Throckmorton Street, Fort Worth, Texas 76102 | October 26, 2006 | 480596
Tarrant | City of Fort Worth (06-06-B207P) | August 17, 2006; August 24, 2006; Fort Worth Star Telegram | The Honorable Michael J. Moncrief, Mayor, City of Fort Worth, 10000 Throckmorton Street, Fort Worth, Texas 76102 | November 23, 2006 | 480596
Tarrant | City of Fort Worth (05-06-A230P) | August 24, 2006; August 31, 2006; Fort Worth Star Telegram | The Honorable Michael J. Moncrief, Mayor, City of Fort Worth, 10000 Throckmorton Street, Fort Worth, Texas 76102 | November 30, 2006 | 480596
Tarrant | City of Fort Worth (06-06-B029P) | August 24, 2006; August 31, 2006; Fort Worth Star Telegram | The Honorable Michael J. Moncrief, Mayor, City of Fort Worth, 10000 Throckmorton Street, Fort Worth, Texas 76102 | July 31, 2006 | 480596
Tarrant | City of Fort Worth (06-06-BD72P) | August 24, 2006; August 31, 2006; Fort Worth Star Telegram | The Honorable Michael J. Moncrief, Mayor, City of Fort Worth, 10000 Throckmorton Street, Fort Worth, Texas 76102 | July 31, 2006 | 480596
Tarrant | City of Saginaw (06-06-B837P) | July 27, 2006; August 3, 2006; Northwest Tarrant County Times Record | The Honorable Gary Brinkley, Mayor, City of Saginaw, 333 West McLeroy Boulevard, Saginaw, Texas 76179 | August 11, 2006 | 480610
Denton &Tarrant | Unincorporated Areas of Tarrant County (05-06-1429P) | April 20, 2006; April 27, 2006; Fort Worth Star Telegram | The Honorable Tom Vandergriff, Tarrant County Judge, 100 East Weatherford Street, Suite 502 A, Fort Worth, Texas 76196 | July 27, 2006 | 480582
Tarrant | Unincorporated Areas of Tarrant County (06-06-B004P) | April 20, 2006; April 27, 2006; Fort Worth Star Telegram | The Honorable Tom Vandergriff, Tarrant County Judge, 100 East Weatherford Street, Suite 502 A, Fort Worth, Texas 76196 | July 27, 2006 | 480582
Travis | City of Austin (05-06-0770P) | April 27, 2006; May 4, 2006; Austin American Statesman | The Honorable Will Wynn, Mayor, City of Austin, P.O. Box 1088, Austin, Texas 78767 | August 3, 2006 | 480624
Travis | City of Austin (05-06-A445P) | June 15, 2006; June 22, 2006; Austin American Statesman | The Honorable Will Wynn, Mayor, City of Austin, P.O. Box 1088, Austin, Texas 78767 | September 21, 2006 | 480624
Travis | City of Austin (04-06-1466P) | July 13, 2006; July 20, 2006; Austin American Statesman | The Honorable Will Wynn, Mayor, City of Austin, P.O. Box 1088, Austin, Texas 78767 | October 19, 2006 | 480624
Travis | City of Austin (05-06-A031P) | July 27, 2006; August 3, 2006; Austin American Statesman | The Honorable Will Wynn, Mayor, City of Austin, P.O. Box 1088, Austin, Texas 78767 | June 30, 2006 | 480624
Travis | City of Pflugerville (05-06-0397P) | March 30, 2006; April 6, 2006; Austin American Statesman | The Honorable Catherin T. Callen, Mayor, City of Pflugerville, P.O. Box 589, Pflugerville, Texas 78691 | March 15, 2006 | 481028
Travis | Unincorporated Areas of Travis County (05-06-0770P) | April 27, 2006; May 4, 2006; Austin American Statesman | The Honorable Samuel T. Biscoe, Travis County Judge, 314 West 11th Street, Suite 520, Austin, Texas 78701 | August 3, 2006 | 481026
Travis | Unincorporated Areas of Travis County (05-06-A031P) | April 27, 2006; May 4, 2006; Austin American Statesman | The Honorable Samuel T. Biscoe, Travis County Judge, 314 West 11th Street, Suite 520, Austin, Texas 78701 | June 30, 2006 | 481026
Williamson | City of Round Rock (05-06-0490P) | February 23, 2006; March 2, 2006; Round Rock Leader | The Honorable Nyle Maxwell, Mayor, City of Round Rock, 221 East Main Street, Round Rock, Texas 78664 | March 8, 2006 | 481048
Virginia:
Fauquier | Unincorporated Areas of Fauquier County (04-03-A019P) | December 29, 2005; January 5, 2006; Fauquier Citizen | The Honorable Raymond E. Graham, Chairman, Fauquier County Board of Supervisors, 10 Hotel Street, Suite 208, Warrenton, Virginia 20186 | April 6, 2006 | 510055
Fauquier | Town of Warrenton (05-03-A447P) | August 23, 2006; August 30, 2006; Fauquier Times | The Honorable George B. Fitch, Mayor, Town of Warrenton, 18 Court Street, Warrenton, Virginia 20186 | November 30, 2006 | 510057
Independent City | City of Fairfax (04-03-A027P) | April 13, 2006; April 20, 2006; Fairfax Connection Newspapers | The Honorable Robert F. Lederer, Mayor, City of Fairfax, City Hall, 10455 Armstrong Street, Fairfax, Virginia 22030-3630 | July 20, 2006 | 515524
Loudoun | Unincorporated Areas of Loudoun County (05-03-A388P) | May 3, 2006; May 10, 2006; Loudoun Times | The Honorable Scott K. York, Chairman, Loudoun County Board of Supervisors, P.O. Box 7000, Leesburg, Virginia 20177-7000 | August 9, 2006 | 510090
Loudoun | Unincorporated Areas of Loudoun County (05-03-0412P) | August 16, 2006; August 23, 2006; Loudoun Times Mirror | The Honorable Scott K. York, Chairman, Loudoun County Board of Supervisors, P.O. Box 7000, Leesburg, Virginia 20177-7000 | July 25, 2006 | 510090
Stafford | Unincorporated Areas of Stafford County (05-03-0456P) | June 16, 2006; June 23, 2006; Stafford County Sun | Mr. R. Steve Crosby, County Administrator, Stafford County, P.O. Box 339, Stafford, Virginia 22555-0339 | May 10, 2006 | 510154
Rockbridge | City of Lexington (05-03-0901P) | August 23, 2006; August 30, 2006; Rockbridge Weekly | The Honorable John Knapp, Mayor, City of Lexington, 300 East Washington Street, Lexington, Virginia 24450 | August 7, 2006 | 510089
Vermont:
Windsor | Town of Woodstock (05-01-0287P) | June 22, 2006; June 29, 2006; Upper Connecticut River Valley | The Honorable Philip Swanson, Mayor, Town of Woodstock, Woodstock Town Hall, 29 The Green, Woodstock, Vermont 05091 | September 28, 2006 | 500160
Washington:
King | City of Issaquah (06-10-B008P) | February 22, 2006; March 1, 2006; Issaquah Press | The Honorable Ava Frisinger, Mayor, City of Issaquah, P.O. Box 1307, Issaquah, Washington 98027 | May 31, 2006 | 530079
Walla Walla | Unincorporated Areas of Walla Walla County (06-10-0491P) | August 17, 2006; August 24, 2006; Waitsburg Times | The Honorable David G. Carey, Chairman, Walla Walla County Board of Commissioners, P.O. Box 1506, Walla Walla, Washington 99362 | November 23, 2006 | 530194
Whatcom | City of Bellingham (05-10-0554P) | April 20, 2006; April 27, 2006; Bellingham Herald | The Honorable Mark Asmundson, Mayor, City of Bellingham, Bellingham City Hall, Second Floor, 210 Lottie Street, Bellingham, Washington 98225 | July 13, 2006 | 530199
Yakima | City of Toppenish (06-10-B462P) | September 8, 2006; September 14, 2006; Daily Sun News | The Honorable Bill Rogers, Mayor, City of Toppenish, Toppenish City Hall, 21 West First Avenue, Toppenish, Washington 98948 | December 14, 2006 | 530228
Wisconsin:
Milwaukee and Washington | City of Milwaukee (04-05-A652P) | February 23, 2006; March 2, 2006; Milwaukee Journal Sentinel | The Honorable Tom Barrett, Mayor, City of Milwaukee, City Hall, Room 201, 200 East Wells Street, Milwaukee, Wisconsin 53202 | June 1, 2006 | 550278
Outagamie | Unincorporated Areas of Outagamie County (05-05-A000P) | June 1, 2006; June 8, 2006; Post Crescent | The Honorable Toby Paltzer, County Executive, Outagamie County, 410 South Walnut Street, Appleton, Wisconsin 54911 | April 28, 2006 | 550302
Pierce | Village of Plum City (05-05-1545P) | August 16, 2006; August 23, 2006; Pierce County Herald | The Honorable Douglas E. Watkins, Village President, Village of Plum City, P.O. Box 207, Plum City, Wisconsin 54761 | November 23, 2006 | 550328
Wyoming:
Teton | Unincorporated Areas of Teton County (05-08-0317P) | March 29, 2006; April 5, 2006; Jackson Hole News | The Honorable Leland Christensen, Chair, Teton County, Board of Commissioners, P.O. Box 3594, Jackson, Wyoming 83001 | March 15, 2006 | 560094

(Catalog of Federal Domestic Assistance No. 83.100, “Flood Insurance.”)

Dated: September 25, 2006.
David I. Maurstad,
Director, Mitigation Division, Federal Emergency Management Agency, Department of Homeland Security.

[FR Doc. E6-16659 Filed 10-6-06; 8:45 am]

BILLING CODE 9110-12-P